BROADCASTING BOARD OF GOVERNORS

Government in the Sunshine Act Meeting Notice

DATE AND TIME: Thursday, June 7, 2012, 10:00 a.m. EDT.

PLACE: Radio Free Europe/Radio Liberty, Vinohradska 159A, 100 00 Prague 10, Czech Republic.

SUBJECT: Notice of Meeting of the Broadcasting Board of Governors.

SUMMARY: The Broadcasting Board of Governors (BBG) will be meeting at the time and location listed above. At the meeting, the BBG will consider a resolution to honor S. Enders Wimbush for his service on the Board, and a resolution regarding limiting spending on travel and conferences. The BBG will recognize the anniversaries of Agency language services, receive a budget update, and receive reports from the International Broadcasting Bureau Director, the Communications and External Affairs Director, the VOA Director, the Office of Cuba Broadcasting Director, and the Presidents of Radio Free Europe/Radio Liberty (RFE/RL), Radio Free Asia, and the Middle East Broadcasting Networks.

The public may attend this meeting in person at RFE/RL headquarters in Prague as seating capacity allows. Member of the public seeking to attend the meeting in person must register at http://bbgboardmeetingjune2012.eventbrite.com by 10 a.m. (EDT) on June 6. For more information, please contact BBG Public Affairs at (202) 203-4400 or by email at pubaff@bbg.gov. This meeting will also be available for public observation via streamed Webcast, both live and on-demand, on the BBG's public Web site at www.bbg.gov.

CONTACT PERSON FOR MORE INFORMATION: Persons interested in obtaining more information should contact Paul Kollmer-Dorsey at (202) 203-4545.

Paul Kollmer-Dorsey,
Deputy General Counsel.

[FR Doc. 2012-13472 Filed 5-30-12; 4:15 pm]

BILLING CODE 8610-01-P